DEPARTMENT OF THE INTERIOR

National Park Service

Final Environmental Impact Statement; Non-Native Deer Management Plan; Point Reyes National Seashore; Marin County, CA; Notice of Approval of Record of Decision

SUMMARY: Pursuant to § 102(2)(C) of the National Environmental Policy Act of 1969 (P.L.91-190, as amended) and the implementing regulations promulgated by the Council on Environmental Quality (40 CFR Part 1505.2), the Department of the Interior, National Park Service has prepared, and the Regional Director, Pacific West Region has approved, the Record of Decision for the Non-Native Deer Management Plan for Pt. Reyes National Seashore. The formal no-action period was officially initiated August 18, 2006, with the U.S. Environmental Protection Agency's Federal Register notification of the filing of the Final Environmental Impact Statement (EIS).

Decision: As soon as practicable the Seashore will begin to implement as its new Non-Native Deer Management Plan the Preferred Alternative (Alternative E) contained in the Draft and Final EIS. The selected plan features a deliberate, long-term strategy targeting eradication of all fallow and axis deer from the Seashore by 2021. A combined program of fertility control (using long-lasting contraceptives) and lethal removal will be instituted, as well as an intensive monitoring program extending for at least 15 years.

As documented in the Final EIS, this course of action was deemed to be “environmentally preferred”. The preferred plan and four alternatives were identified and analyzed in the Final EIS, and previously in the Draft EIS (the latter was distributed in February, 2005). The full spectrum of foreseeable environmental consequences was assessed, and appropriate mitigation measures identified, for each alternative. Beginning with early scoping, through the preparation of the Draft and Final EIS, numerous public meetings were hosted. Approximately 2000 oral and written comments were received during the scoping phase or in response to the Draft EIS. Key consultations or other contacts which aided in preparing the Draft and Final EIS involved (but were not limited to) the California Department of Fish and Game, California State Parks, Marin County Parks and Open Space, Marin Municipal Water District, U.S. Dept. of Agriculture Animal Plant Health Inspection Service, and the U.S. Fish and Wildlife Service. Local communities, county and city officials, and interested organizations were contacted extensively during initial scoping and throughout the conservation planning and environmental impact analysis process.

Copies: Interested parties desiring to review the Record of Decision may obtain a complete copy by contacting the Superintendent, Pt. Reyes National Seashore, Point Reyes, CA 94956; or via telephone request at (415) 464-5100.

Dated: October 17, 2006.
Jonathan B. Jarvis,
Regional Director, Pacific West Region.

[FR Doc. E6-20239 Filed 11-28-06; 8:45 am]

BILLING CODE 4312-FW-P